DEPARTMENT OF COMMERCE

International Trade Administration

[A-337-806]

Individually Quick Frozen Red Raspberries from Chile: Notice of Partial Rescission of Antidumping Duty Administrative Review

AGENCY: Import Administration, International Trade Administration, Department of Commerce.

SUMMARY: In response to requests from interested parties, the Department of Commerce is conducting an administrative review of the antidumping duty order on individually quick frozen red raspberries from Chile. This review covers sales of individually quick frozen red raspberries to the United States during the period July 1, 2004, through June 30, 2005. Based on the withdrawal of requests for review with respect to certain companies, we are rescinding, in part, the third administrative review.

EFFECTIVE DATE: December 28, 2005.

FOR FURTHER INFORMATION CONTACT: Yasmin Bordas, AD/CVD Operations, Office 1, Import Administration, International Trade Administration, U.S. Department of Commerce, 14th Street and Constitution Avenue, N.W., Washington DC. 20230; telephone (202) 482-3813.

SUPPLEMENTARY INFORMATION:

Background

On July 1, 2005, the Department of Commerce (“the Department”) published in the Federal Register the Notice of Antidumping or Countervailing Duty Order, Finding, or Suspended Investigation; Opportunity to Request Administrative Review, 70 FR 38099 (July 1, 2005), for the above-cited segment of this antidumping duty proceeding. We received a timely filed request for review for 57 companies from the Pacific Northwest Berry Association, Lynden, Washington, and each of its individual members, Curt Maberry Farm; Enfield Farms, Inc.; Maberry Packing; and Rader Farms, Inc. (collectively, “the petitioners”). We also received timely filed requests for review from Fruticola Olmue, S.A. (“Olmue”); Santiago Comercio Exterior Exportaciones, Ltda. (“SANCO”); Valles Andinos, S.A. (“Valles Andinos”); Vital Berry Marketing, S.A. (“VBM”); and Alimentos Naturales Vitafoods S.A. (“Vitafoods”).

On August 29, 2005, the Department published in the Federal Register the Notice of Initiation of Antidumping and Countervailing Duty Administrative Reviews and Requests for Revocation in Part, 70 FR 51009 (August 29, 2005), initiating this review for all 57 companies. On September 23, 2005, we received a submission from the petitioners withdrawing their request for review for all of the companies for which they had requested an administrative review, except for the following companies: Arlavan, S.A. (“Arlavan”), Sociedad Agroindustrial Valle Frio, Ltda. (“Valle Frio”), Olmue, Valles Andinos, VBM, SANCO, and Vitafoods.

Partial Rescission of Antidumping Administrative Review

The petitioners filed their withdrawal request within the deadline established by the Department. Therefore, we are rescinding the above-cited administrative review with respect to the following companies in accordance with 19 CFR 351.213(d)(1):

Agricola Nova, Ltda.

Agrocomercial Las Tinajas, Ltda.

Agrofruta Chilena, Ltda.

Agroindustria Framberry, Ltda.

Agroindustria Niquen, Ltda.

Agroindustria Sagrada Familia, Ltda.

Agroindustria y Frigorifico M y M, Ltda.

Agroindustrial Frisac, Ltda.

Agroindustrial Frutos del Maipo, Ltda.

Agroindustrial Merco Trading, Ltda.

Agroindustrias San Francisco, Ltda.

Agross, S.A.

Alimentos Prometeo, Ltda.

Alimentos y Frutos, S.A.

Andesur, S.A.

Angloeuro Comercio Exterior, S.A.

Armijo Carrasco, Claudio del Carmen

Bajo Cero, S.A.

Certified Pure Ingredients (Chile) Inc. y Cia., Ltda.

Chile Andes Foods, S.A.

Comercializadora Agricola Berries & Fruit, Ltda.

Comercializadora de Alimentos del Sur, Ltda.

Comercio y Servicios, S.A.

Copefrut, S.A.

C y C Group, S.A.

Exportaciones Meyer, S.A.

Exportadora Fragaria Ltda.

Exportadora Pentagro, S.A.

Exportadora South Berries Ltda.

Francisco Nancuvilu Punsin

Frigorifico Ditzler, Ltda.

Frutas de Guaico, S.A.

Fruticola Viconto, S.A.

Hassler Monckeberg, S.A.

Hortifrut, S.A.

Interagro Comercio y Ganado, S.A.

Kugar Export, Ltda.

Maria Teresa Ubilla Alarcon

Multifrigo Valparaiso, S.A.

Nevada Export, S.A.

Prima Agrotrading, Ltda.

Procesadora y Exportadora de Frutas y Vegetales

Rio Teno, S.A.

Sociedad Agricola Valle del Laja, Ltda.

Sociedad Comercial C y C, S.A.

Sociedad Exportaciones Antiquina, Ltda.

Sociedad San Ernesto, Ltda.

Surfrut

Terra Natur, S.A.

Terrazas Export, S.A.

The following companies remain subject to this administrative review: Olmue, SANCO, VBM, Valles Andinos, Vitafoods, Arlavan and Valle Frio. We intend to issue our preliminary results in this administrative review for Olmue, SANCO, VBM, Valles Andinos, Vitafoods, Arlavan, and Valle Frio by April 3, 2006.

Assessment

The Department will instruct U.S. Customs and Border Protection (“CBP”) to assess antidumping duties on all appropriate entries. For those companies for which this review is rescinded, antidumping duties shall be assessed at rates equal to the cash deposit of estimated antidumping duties required at the time of entry, or withdrawal from warehouse, for consumption, in accordance with 19 CFR 351.212(c)(1)(i). The Department will issue appropriate assessment instructions directly to CBP within 15 days of publication of this notice.

Cash Deposit Rates

For the companies for which this review is rescinded, the cash deposit rate will continue to be 6.33 percent, the “all others'' rate established in the less-than-fair-value investigation. See Notice of Amended Final Determination of Sales at Less Than Fair Value: IQF Red Raspberries from Chile, 67 FR 40270 (June 12, 2002).

These cash deposit requirements shall remain in effect until publication of the final results of this administrative review.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i) of the Tariff Act of 1930, as amended, and 19 CFR 351.213(d)(4).

Dated: December 21, 2005.
Stephen J. Claeys,
Deputy Assistant Secretary for Import Administration.

[FR Doc. E5-7978 Filed 12-27-05; 8:45 am]

BILLING CODE 3510-DS-S